INTERNATIONAL TRADE COMMISSION

[USITC SE-17-018]

Government in the Sunshine Act Meeting Notice

AGENCY HOLDING THE MEETING: United States International Trade Commission.

TIME AND DATE: May 5, 2017 at 11:00 a.m.

PLACE: Room 101, 500 E Street SW., Washington, DC 20436, Telephone: (202) 205-2000.

STATUS: Open to the public.

Matters to be Considered

1. Agendas for future meetings: None.

2. Minutes.

3. Ratification List.

4. Vote in Inv. Nos. 701-TA-571-572 and 731-TA-1347-1348 (Preliminary) (Biodiesel from Argentina and Indonesia). The Commission is currently scheduled to complete and file its determinations on May 8, 2017; views of the Commission are currently scheduled to be completed and filed on May 15, 2017.

5. Vote in Inv. Nos. 701-TA-561 and 731-TA-1317-1318, 1321-1325, and 1327 (Final) (Carbon and Alloy Steel Cut-to-Length Plate from Austria, Belgium, France, Germany, Italy, Japan, Korea, and Taiwan). The Commission is currently scheduled to complete and file its determination and views of the Commission by May 17, 2017.

6. Outstanding action jackets: None.

In accordance with Commission policy, subject matter listed above, not disposed of at the scheduled meeting, may be carried over to the agenda of the following meeting.

By order of the Commission.
Issued: April 26, 2017.
William R. Bishop,
Supervisory Hearings and Information Officer.

[FR Doc. 2017-08886 Filed 4-27-17; 4:15 pm]

BILLING CODE 7020-02-P